DEPARTMENT OF DEFENSE

Department of the Air Force

[Docket ID: USAF-2013-0034]

Proposed Collection; Comment Request

AGENCY: Air Education and Training Command (AETC/A5TS), Department of the Air Force/Headquarters, Department of Defense.

ACTION: Notice.

SUMMARY: In compliance with Section 3506(c)(2)(A) of the Paperwork Reduction Act of 1995, the Department of the Air Force announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 28, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to HQ Air Education and Training Command (AETC/A5TS), ATTN: Mr. M. Rasti, 1150 East 5th Street, Suite 210, JBSA Randolph TX 78150, or call 210-652-2299.

SUPPLEMENTARY INFORMATION: Title; Associated Form; and OMB Number: Graduate Training Integration Management System (GTIMS), OMB Number 0701-TBD.

Needs and Uses: Require the collection of specific information on prospective Air Force contract flight instructors. It is necessary to create records that are used to ensure they are qualified to be flight instructors.

Affected Public: Individuals or households.

Annual Burden Hours: 63.

Number of Respondents: 250.

Responses per Respondent: 1.

Average Burden per Response: 15 minutes.

Frequency: On occasion.

Respondents are former military members, now members of the general public, who become contract employees that provide flying training instruction to military students. Regulations stipulate that these individuals maintain instructor certifications in accordance with Federal and Air Force requirements to ensure students are properly trained. Requesting and receiving direct feedback from this group would be helpful to inform and modify processes and procedures that pertain to others in this same category in the future.

Dated: August 23, 2013.
Aaron Siegel,
Alternate OSD Federal Register Liaison Officer, Department of Defense.

[FR Doc. 2013-21001 Filed 8-27-13; 8:45 am]

BILLING CODE 5001-06-P